DEPARTMENT OF ENERGY

Federal Energy Regulatory Commission

[Project No. 2100-119]

California Department of Water Resources; Notice of Availability of Draft Environmental Assessment

January 30, 2004.

In accordance with the National Environmental Policy Act of 1969, as amended, and the Federal Energy Regulatory Commission's (Commission or FERC) regulations (18 CFR part 380), the Commission staff reviewed an application for amendment to the approved recreation plan for the Feather River Project (FERC No. 2100) and prepared a draft environmental assessment (EA) on the application. The project is located on the Feather River in Butte County, California, near the city of Oroville.

Specifically, the project licensee, the California Department of Water Resources, has requested that the Commission amend the approved recreation plan for the project to allow shared use of certain recreation trails within the project boundaries. In the EA, the Commission staff analyzes the probable environmental effects of the proposed amendment and concludes that the proposal should not be approved.

Copies of the DEA are available for review in Public Reference Room 2-A of the Commission's offices at 888 First Street, NE., Washington, DC. The DEA also may be viewed on the Commission's Web site (http://www.ferc.gov) using the eLibrary (formerly FERRIS) link. Additional information about the project is available from the Commission's Office of External Affairs, at (202) 502-8004, or on the Commission's Web site using the eLibrary link. You may register online at http://www.ferc.gov/docs-filing/esubscription.asp to be notified via e-mail of new filings and issuances related to this or other pending projects. For assistance, contact FERCOnlineSupport@ferc.gov or toll-free at (866) 208-3676, or for TTY, (202) 502-8659.

Any comments on the DEA should be filed within 30 days of the date of this notice and should be addressed to Magalie R. Salas, Secretary, Federal Energy Regulatory Commission, 888 First Street, NE., Washington, DC 20426. Please reference “Feather River Project, FERC Project No. 2100-119” on all comments. Comments may be filed electronically via the Internet in lieu of paper. See 18 CFR 385.2001(a)(1)(iii) and the instructions on the Commission's Web site under the eFiling link.

Magalie R. Salas,
Secretary.

[FR Doc. E4-198 Filed 2-5-04; 8:45 am]

BILLING CODE 6717-01-P